DEPARTMENT OF HEALTH AND HUMAN SERVICES

Administration for Community Living

Agency Information Collection Activities: Proposed Collection; Public Comment Request; of the National Institute on Disability, Independent Living, and Rehabilitation Research (NIDILRR) Grantee Annual Performance Reporting (APR) and Final Report Forms; OMB No.: 0985-0050

AGENCY: Administration for Community Living, HHS.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC Extension solicits comments on the information collection requirements relating to the National Institute on Disability, Independent Living, and Rehabilitation Research (NIDILRR) Grantee Annual Performance Reporting (APR) and Final Report Forms OMB Control Number 0985-0050.

DATES: Comments on the collection of information must be submitted electronically by 11:59 p.m. (EST) or postmarked by November 27, 2023.

ADDRESSES: Submit electronic comments on the collection of information to: Myrial.Earl@acl.hhs.gov. Submit written comments on the collection of information to Administration for Community Living, 330 C Street SW, Washington, DC 20201, Attention: Myrial Earl.

FOR FURTHER INFORMATION CONTACT: Earl Myrial at Myrial.Earl@acl.hhs.gov, Administration for Community Living or (202) 795-7341.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval.

To comply with this requirement, ACL is publishing a notice of the proposed collection of information set forth in this document.

With respect to the following collection of information, ACL invites comments on our burden estimates or any other aspect of this collection of information, including: (1) whether the proposed collection of information is necessary for the proper performance of ACL's functions, including whether the information will have practical utility; (2) the accuracy of ACL's estimate of the burden of the proposed collection of information, including the validity of the methodology and assumptions used to determine burden estimates; (3) ways to enhance the quality, utility, and clarity of the information to be collected; and (4) ways to minimize the burden of the collection of information on respondents, including through the use of automated collection techniques when appropriate, and other forms of information technology.

The National Institute on Disability, Independent Living, and Rehabilitation Research (NIDILRR) Grantee Annual Performance Reporting (APR) and Final Report Forms collect data from all NIDILRR grantees via a web-based reporting system and addresses specific HHS regulations that shall be met by applicants and grantees. HHS regulations that apply to NIDILRR Grant programs include Part 75 of the Uniform Administrative Requirements, Cost Principles and Audit requirements for HHS Awards. Specifically, § 75.342, which requires grantees to submit an annual performance report or, for the last year of a project, a final report that evaluates: (a) the grantee's progress in achieving the objectives in its approved application, (b) the effectiveness of the project in meeting the purposes of the program, and (c) the results of research and related activities.

Additionally, GPRA requires all Federal agencies to implement performance measurement systems that include: (1) a five-year strategic plan, (2) an annual performance plan, and (3) an annual performance report. Currently, NIDILRR has met these requirements and has established performance indicators to meet the reporting requirements. The NIDILRR APR System currently includes reporting forms for all 10 of NIDILRR's grant programs.

This information collection system covers 10 grant programs funded or administered by NIDILRR/ACL, and each grantee submits its information using a reporting form that is unique to the program mechanism under which it is funded. The 10 forms meet the reporting requirements for the following programs:

1. Rehabilitation Research Training Centers (RRTC)

2. Rehabilitation Engineering Research Centers (RERC)

3. Field Initiated Research Projects (FIP)

4. Advanced Rehabilitation Research Training Projects (ARRT)

5. Model Systems—(includes spinal cord injury, traumatic brain injury, burn centers)

6. Disability and Rehabilitation Research Projects (DRRP)

7. Knowledge Translation (KT) Projects

8. ADA National Network Centers (ADAs)

9. Small Business Innovation Research Projects (SBIR)

10. Research Fellowships Program (RFP)

Reporting forms for all 10 programs are Web-based.

Data collected through these forms: (a) facilitate program planning and management; (b) respond to ACL/HHS Grants Policy Administration Manual (GPAM) requirements; and (c) respond to the reporting requirements of the Government Performance and Results Act (GPRA) of 1993 (Pub. L. 103-62).

NIDILRR/ACL uses the information gathered annually from these data collection efforts to provide Congress with the information mandated in GPRA, provide OMB information required for assessment of performance on GPRA indicators, and support its evaluation activities. Data collected from the 10 grant programs will provide a national description of the research activities of approximately 313 NIDILRR grantees. NIDILRR's GPRA plan must collect information to meet the following mandates: (a) implementation of a comprehensive plan that includes goals and objectives; (b) measurement of the program's progress in meeting its objectives; and (c) submission of an annual report on program performance, including plans for program improvement, as appropriate. The data collection system addresses nearly all of the agency's GPRA indicators, either directly or by providing information for the agency's other review processes.

An important gap in sociodemographic information in the Web-based Reporting System for NIDILRR Grantees is a lack of items collecting sexual orientation and gender identify. Adding sexual orientation and gender identify items to the Annual Performance Reporting Forms for NIDILRR Grantees is part of ACL's strategy to address “Executive Order 13988 on Preventing and Combating Discrimination on the Basis of Gender Identity and Sexual Orientation.” Issued in January 2021, Executive Order 13988 called upon agencies to identify existing and new policies to promote equal treatment under the law and ensure that all persons can access healthcare and other essential services without being subjected to sex discrimination. To support alignment with Executive Order 13988, as well as Executive Orders 13985 and 14075, three items will be added to the Annual Performance Reporting Forms for NIDILRR Grantees to collect sexual orientation and gender identity. Including sexual orientation and gender identity questions in this information collection will provide data on topics such as accessibility and utilization of services and programs funded by ACL by lesbian, gay, bisexual, and transgender populations and the health disparities that impact this community. Understanding these disparities can and should lead to improved service delivery for ACL's programs and populations served.

The proposed data collection tools may be found on the ACL website for review at: https://www.acl.gov/about-acl/public-input.

Estimated Program Burden: ACL estimates the burden of this collection of information as follows:

| Number of respondents | Number of responses per respondent | Average burden hours per response | Total burden hours
New Grantees | * 71 | 1 | 52 | 3,692
Continuations of Major Programs | 138 | 1 | 22 | 3,036
Other Continuations | 104 | 1 | 10 | 1,040
Total | 313 |  |  | 7,768
* Does not include SBIR Phase I grants, which do not use the system.

Dated: September 21, 2023.
Alison Barkoff,
Senior Official Performing the Duties of the Administrator and the Assistant Secretary for Aging.

[FR Doc. 2023-21045 Filed 9-26-23; 8:45 am]

BILLING CODE 4154-01-P